ENVIRONMENTAL PROTECTION AGENCY

[EPA-HQ-OW-2005-0019; FRL-8238-8]

Agency Information Collection Activities: Submission for OMB Review and Approval; Comment Request; Contaminant Occurrence Data in Support of EPA's Second Six-Year Review of National Primary Drinking Water Regulations; EPA ICR Number 2231.01

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval. This is a request for a new collection. The ICR, abstracted in this action, describes the nature of the information collection and its estimated burden and cost.

DATES: Additional comments may be submitted on or before December 4, 2006.

ADDRESSES: Submit your comments, referencing Docket ID No. EPA-HQ-OW-2005-0019, to: (1) EPA online using http://www.regulations.gov (our preferred method); or by mail to: EPA Docket Center, Environmental Protection Agency, Water Docket (Mail Code 4101T), 1200 Pennsylvania Ave., NW., Washington, DC 20460, and (2) OMB by mail to: Office of Information and Regulatory Affairs, Office of Management and Budget (OMB), Attention: Desk Officer for EPA, 725 17th Street, NW., Washington, DC 20503.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to http://www.regulations.gov are not affected by the flooding and will remain the same.

FOR FURTHER INFORMATION CONTACT: Peter Lassovszky, Office of Ground Water and Drinking Water, Standards and Risk Management Division, Mail Code 4607M, Environmental Protection Agency, 1200 Pennsylvania Ave., NW., Washington, DC 20460; telephone number: (202) 564-4882; fax number: (202) 564-3760; e-mail address: lassovszky.peter@epa.gov.

SUPPLEMENTARY INFORMATION: EPA has submitted the following ICR to OMB for review and approval according to the procedures prescribed in 5 CFR 1320.12. On June 5, 2006 (71 FR 32340), EPA sought comments on this ICR pursuant to 5 CFR 1320.8(d). EPA received one public comment during the comment period, which is addressed in the ICR. Any additional comments on this ICR should be submitted to EPA and OMB within 30 days of this notice.

EPA has established a public docket for this ICR under Docket ID No. EPA-HQ-OW-2005-0019, which is available for online viewing at http://www.regulations.gov or in person viewing at the Water Docket in the EPA Docket Center (EPA/DC); see “Note” for Docket Center access, highlighted in the ADDRESSES section of this notice.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information, or other information whose public disclosure is restricted by statute. For further information about the electronic docket, go to http://www.regulations.gov.

Title: Contaminant Occurrence Data in Support of EPA's Second Six-Year Review of National Primary Drinking Water Regulations.

ICR numbers: EPA ICR No. 2231.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: The Safe Drinking Water Act (SDWA), as amended in 1996, requires that the U.S. EPA review existing national primary drinking water regulations (NPDWRs) no less often than every six years. This cyclical evaluation is referred to as the “Six-Year Review of National Primary Drinking Water Regulations” or, simply, the “Six-Year Review.” Through the Six-Year Review process, EPA reviews and assesses risks to human health posed by regulated drinking water contaminants. For the first Six-Year Review cycle (1996-2002), EPA reviewed 68 chemical NPDWRs and the Total Coliform Rule (TCR), which were promulgated prior to the 1996 Amendments. The occurrence assessments conducted for the first Six-Year Review were based on compliance monitoring data from 1993 to 1997, which were provided by States. EPA published the results of this review in the July 18, 2003, edition of the Federal Register (68 FR 42907).

To support future Six-Year Reviews, EPA's Office of Water is requesting that States submit, on a voluntary basis, historical compliance monitoring (contaminant occurrence) data for community water systems (CWSs) and non-transient non-community water systems (NTNCWSs). EPA is requesting contaminant occurrence data from 1998 to 2005 for all regulated chemical and radiological contaminants, as well as data from the TCR. EPA anticipates that the compliance monitoring records from this information collection (including all results for analytical detections and non-detections) will provide the data needed to conduct statistical estimates of national occurrence for each regulated contaminant. These national occurrence estimates will be used to support EPA's review of existing regulations, and the Agency's decision on whether any revisions are needed. In addition, the 1996 SDWA section 1445(g) requires the Agency to maintain a national drinking water contaminant occurrence database (i.e., the National Contaminant Occurrence Data (NCOD)) using occurrence data for both regulated and unregulated contaminants in public water systems (PWSs). This data collection will provide new occurrence data on regulated contaminants to maintain the NCOD.

Following the first public notice of this proposed data collection rule on June 5, 2006 (71 FR 32340), EPA received one public comment. The commenter expressed concerns that EPA should (1) make every effort to minimize the effort it takes States to share these data; (2) not use the data in an enforcement context; and (3) not make future collections mandatory. EPA agrees with the commenter that the Agency should aim to minimize burden on the States and plans to do so by allowing submission of data in virtually any electronic format, and providing States that use the Safe Drinking Water Information System State Version (SDWIS/State) with extraction scripts if States agree with this method of data transfer. In addition, EPA plans not to use the data for occurrence assessments for enforcement actions. Finally, EPA plans to conduct this data collection as a voluntary effort. Any possible future changes regarding the collection of drinking water contaminant occurrence data will be handled through a separate public comment process. The commenter did not suggest that EPA make changes to the data collection format or to the cost and burden estimates.

Burden Statement: The annual public reporting and recordkeeping burden for this collection of information is estimated to average 12.2 hours per State. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State drinking water primacy agencies.

Estimated Number of Respondents: 56.

Frequency of Response: One time only.

Estimated Total Annual Hour Burden: 681.

Estimated Total Annual Cost: $30,608, which includes $0 annualized capital or O&M costs.

Dated: October 26, 2006.
Oscar Morales,
Director, Collection Strategies Division.

[FR Doc. E6-18494 Filed 11-1-06; 8:45 am]

BILLING CODE 6560-50-P